DEPARTMENT OF TRANSPORTATION

Federal Highway Administration

Notice of Final Federal Agency Actions on the Interstate 81 Viaduct Project, Onondaga County, New York

AGENCY: Federal Highway Administration (FHWA), DOT.

ACTION: Notice of limitation on claims for judicial review of actions by FHWA and other Federal agencies.

SUMMARY: This notice announces action taken by FHWA and other Federal agencies that are final. The actions relate to the Interstate 81 Viaduct Project located in Onondaga County, New York.

DATES: By this notice, FHWA is advising the public of final agency actions subject to 23 U.S.C. 139(l)(1). A claim seeking judicial review of the Federal agency actions on the highway project will be barred unless the claim is filed on or before October 31, 2022. If the Federal law that authorizes judicial review of a claim provides a time period of less than 150 days for filing such claim, then that shorter time period still applies.

FOR FURTHER INFORMATION CONTACT: Richard J. Marquis, Division Administrator, Federal Highway Administration, Leo W. O'Brien Federal Building, 11A Clinton Avenue, Suite 719, Albany, New York 12207, Telephone (518) 431-4127.

SUPPLEMENTARY INFORMATION: Notice is hereby given that FHWA and other Federal agencies have taken final agency actions by issuing approvals for the following highway project in the State of New York: Interstate 81 Viaduct Project, Onondaga County, New York. The purpose of the Project is to address structural deficiencies and non-standard highway features while creating an improved transportation corridor through the City of Syracuse that meets the transportation needs and provides the infrastructure to support long-range transportation planning efforts.

The objectives of the Project are to:

• Address the transportation network structural deficiencies, particularly associated with aging bridge structures and non-standard/non-conforming design features within the project limits along Interstate 81 and Interstate 690.

• Address vehicular, pedestrian, and bicycle geometric and operational deficiencies within the project limits.

• Maintain or enhance vehicle access to the interstate highway network and key destinations (i.e., business districts, hospitals, and institutions) within neighborhoods within and near Downtown Syracuse.

• Maintain or enhance the vehicular, pedestrian, and bicycle connections in the local street network within the project limits in and near Downtown Syracuse to allow for connectivity between neighborhoods, business districts, and other key destinations.

• Maintain access to existing local bus service and enhance transit amenities within the project limits in and near Downtown Syracuse.

The actions by the Federal agencies, and the laws under which such actions were taken, are described in the FHWA Final Environmental Impact Statement (FEIS) for the project, signed April 4, 2022, in the Record of Decision (ROD) for the project, issued on May 31, 2022, and in other documents in the FHWA administrative record. The FEIS, ROD, and other documents in the FHWA administrative record files are available by contacting FHWA at the address provided above. The FEIS and ROD can also be viewed and downloaded from the project website at: https://webapps.dot.ny.gov/i-81-viaduct-project.

This notice applies to FHWA agency decisions as of the issuance date of this notice and all laws under which such actions were taken, including but not limited to:

1. National Environmental Policy Act [42 U.S.C. 4321-4351].

2. Federal-Aid Highway Act [23 U.S.C. 109].

3. Clean Air Act [42 U.S.C. 7401-7671(q)].

4. Section 4(f) of the Department of Transportation Act of 1966 [49 U.S.C. 303].

5. Endangered Species Act [16 U.S.C. 1531-1544 and 1536].

6. Fish and Wildlife Coordination Act [16 U.S.C. 661-667(d)].

7. Migratory Bird Treaty Act [16 U.S.C. 703-712].

8. Bald and Golden Eagle Protection Act [16 U.S.C. 668-668c].

9. Section 106 of the National Historic Preservation Act of 1966, as amended [16 U.S.C. 470].

10. Farmland Protection Policy Act [7 U.S.C. 4201-4209].

11. Clean Water Act (Section 319, Section 401, Section 402, Section 404) [33 U.S.C. 1251-1377].

12. Safe Drinking Water Act [42 U.S.C. 300(f) et seq.].

13. Uniform Relocation Assistance and Real Property Acquisition Policies Act of 1970 [42 U.S.C. 4601 et seq.].

14. Noise Control Act of 1972 [42 U.S.C. 4901 et seq.].

15. Resource Conservation and Recovery Act [42 U.S.C. 6901-6992(k)].

16. Comprehensive Environmental Response, Compensation, and Liability Act [42 U.S.C. 9601-9675].

17. Americans with Disabilities Act of 1990 [42 U.S.C. 12101].

18. Executive Order 11990 Protection of Wetlands.

19. Executive Order 11988 Floodplain Management.

20. Executive Order 12898 Federal Actions to Address Environmental Justice in Minority Populations and Low-Income Populations.

21. Executive Order 11593 Protection and Enhancement of Cultural Resources.

22. Executive Order 13007 Indian Sacred Sites.

23. Executive Order 13287 Preserve America.

24. Executive Order 13175 Consultation and Coordination with Indian Tribal Governments.

25. Executive Order 11514 Protection and Enhancement of Environmental Quality.

26. Executive Order 13112 Invasive Species.

27. Executive Order 13166 Improving Access to Services for Persons with Limited English Proficiency.

(Catalog of Federal Domestic Assistance Program Number 20.205, Highway Planning and Construction. The regulations implementing Executive Order 12372 regarding intergovernmental consultation on Federal programs and activities apply to this program.)

Authority: 23 U.S.C. 139(l)(1).

Issued on: May 31, 2022.
Richard J. Marquis,
Division Administrator, Albany, NY.

[FR Doc. 2022-11996 Filed 6-2-22; 8:45 am]

BILLING CODE 4910-RY-P